DEPARTMENT OF HOMELAND SECURITY

Coast Guard

33 CFR Part 165

[CGD09-03-289]

RIN 2115-AA00

Security Zone; Renaissance Center, Cobo Hall, North American International Auto Show, Detroit River, Detroit, MI

AGENCY: Coast Guard, DHS.

ACTION: Temporary final rule.

SUMMARY: The Coast Guard is establishing a temporary security zone on the navigable waters of the Detroit River in the Captain of the Port Detroit Zone. This temporary security zone is necessary to protect the participants during the North American International Auto Show, as well as the public, facilities, and the surrounding area from possible sabotage or other subversive acts. This security zone is intended to restrict vessel traffic from a portion of the Detroit River in the vicinity of the Renaissance Center and Cobo Hall.

DATES: This rule is effective from 12 a.m. (noon) January 9, 2004, until 8 p.m. January 19, 2004.

ADDRESSES: Comments and material received from the public, as well as documents indicated in this preamble as being available in the docket, are part of docket CGD09-03-289 and are available for inspection or copying at Coast Guard Marine Safety Office Detroit, 110 Mt. Elliott Ave, Detroit, Michigan, between 8 a.m. and 4 p.m., Monday through Friday, except Federal Holidays.

FOR FURTHER INFORMATION CONTACT: LTJG Brandon Sullivan, U.S. Coast Guard Marine Safety Office Detroit, at (313) 568-9580.

SUPPLEMENTARY INFORMATION:

Regulatory Information

We did not publish a notice of proposed rulemaking (NPRM) for this regulation. Under 5 U.S.C. 553(b)(B) and under 5 U.S.C. 553(d)(3), the Coast Guard finds that good cause exists for not publishing an NPRM and for making this rule effective less than 30 days after publication in the Federal Register. The Coast Guard was unaware of the need for this security zone in time to publish an NPRM followed by a temporary final rule before the effective date. Delaying this rule would be contrary to the public interest of ensuring the safety of individuals at the North American International Auto Show.

Background and Purpose

This security zone is necessary to protect the participants at the North American International Auto Show, as well as the public, facilities, and the surrounding area from possible sabotage or other subversive acts. All persons other than those approved by the Captain of the Port Detroit, or his authorized representative, are prohibited from entering or moving within this security zone. The Captain of the Port Detroit may be contacted via VHF Channel 16 for further instructions before transiting through the restricted area. The Captain of the Port Detroit's on-scene representative will be the Patrol Commander. In addition to this publication of the rule in the Federal Register, the public will be made aware of the existence of this security zone, exact location and the restrictions involved, via Broadcast Notice to Mariners.

Discussion of Temporary Final Rule

This regulation establishes a temporary security zone commencing on the shore-side of Cobo Hall, at 42°19′26.6″ N, 083°03′06.6″ W; then extending offshore at 160°T to the Third St. junction buoy at 42°19′24.2″ N, 83°03′4.7″ W; then northeast at 073°T to the Griswold St. junction buoy at 42°19′31″ N, 83°02′34.1″ W; then northeast at 071°T to 42°19′40″ N, 083°02′00″ W; then north at 000°T to a point on land at 42°19′46.3″ N, 083°02′00″ W (near Atwater Customs station); then southeast following the shoreline back to the point of origin. These coordinates are based upon North American Datum 1983 (NAD 83). This security zone will be enforced from 12 a.m. (noon) on January 9, 2004, until 8 p.m. on January 19, 2004.

Regulatory Evaluation

This temporary final rule is not a significant regulatory action under section 3(f) of Executive Order 12866 and does not require an assessment of potential costs and benefits under section 6(a)(3) of that order. The Office of Management and Budget has exempted it from review under that order. It is not significant under the regulatory policies and procedures of the Department of Homeland Security. The Coast Guard expects the economic impact of this proposal to be so minimal that a full Regulatory Evaluation under the regulatory policies and procedures of DHS is unnecessary.

Small Entities

Under the Regulatory Flexibility Act (5 U.S.C. 601-612), we have considered whether this temporary final rule would have a significant economic impact on a substantial number of small entities. The term “small entities” comprises small businesses, not-for-profit organizations that are independently owned and operated and are not dominant in their fields, and governmental jurisdictions with populations of less than 50,000.

The Coast Guard certifies under 5 U.S.C. 605(b) that this rule would not have a significant economic impact on a substantial number of small entities.

This temporary security zone will not have a significant economic impact on a substantial number of small entities for the following reasons. This rule will not obstruct the regular flow of commercial traffic and will allow vessel traffic to pass around the security zone. In the event that a commercial vessel desires to transit the area, they may request permission from the Captain of the Port Detroit to transit the area. Commercial vessels may only transit the area after receiving permission from the Captain of the Port Detroit.

Assistance for Small Entities

Under section 213(a) of the Small Business Regulatory Enforcement Fairness Act of 1996 (Public Law 104-121), we want to assist small entities in understanding this rule so that they can better evaluate its effects on them and participate in the rulemaking. If the rule would affect your small business, organization, or governmental jurisdiction and you have questions concerning its provisions or options for compliance, please contact the office listed in ADDRESSES in this preamble. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This temporary final rule would call for no new collection of information under the Paperwork Reduction Act of 1995 (44 U.S.C. 3501-3520.).

Federalism

We have analyzed this temporary final rule under Executive Order 13132, Federalism, and have determined that this rule does not have implications for federalism under that Order.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this temporary final rule would not result in such an expenditure, we do discuss the effects of this rule elsewhere in this preamble.

Taking of Private Property

This temporary final rule would not affect a taking of private property or otherwise have taking implications under Executive Order 12630, Governmental Actions and Interference with Constitutionally Protected Property Rights.

Civil Justice Reform

This temporary final rule meets applicable standards in sections 3(a) and 3(b)(2) of Executive Order 12988, Civil Justice Reform, to minimize litigation, eliminate ambiguity, and reduce burden.

Protection of Children

We have analyzed this temporary final rule under Executive Order 13045, Protection of Children from Environmental Health Risks and Safety Risks. This rule is not an economically significant rule and would not create an environmental risk to health or risk to safety that might disproportionately affect children.

Indian Tribal Governments

This temporary final rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this temporary final rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action.

Environment

We have considered the environmental impact of this temporary final rule and concluded that, under figure 2-1, paragraph (34)(g), of Commandant Instruction M16475.lD, this rule is categorically excluded from further environmental documentation.

List of Subjects in 33 CFR Part 165

Harbors, Marine safety, Navigation (water), Reporting and record keeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170.1

2. Add § 165.T09-289 to read as follows:

§ 165.T09-289 Security Zone; Renaissance Center and Cobo Hall, North American International Auto Show, Detroit River, Detroit, MI.

(a) Location. The following is a temporary security zone: All waters and adjacent shoreline encompassed by a line commencing on the shore-side near Cobo Hall, at 42°19′26.6″ N, 083°03′06.6″ W; then extending offshore at 160°T to the Third St. junction buoy at 42°19′24.2″ N, 83°03′4.7″ W; then northeast at 073°T to the Griswold St. junction buoy at 42°19′31″ N, 83°02′34.1″ W; then northeast at 071°T to 42°19′40″ N, 083°02′00″ W; then north at 000°T to a point on land at 42°19′46.3″ N, 083°02′00″ W (near Atwater Customs station); then southeast following the shoreline back to the point of origin. These coordinates are based upon North American Datum 1983 (NAD 83).

(b) Enforcement period. This security zone will be enforced from 12 p.m. (noon) January 9, 2004, until 8 p.m. on January 19, 2004.

(c) Regulations. (1) In accordance with § 165.33, entry into this zone is prohibited unless authorized by the Coast Guard Captain of the Port Detroit.

(2) Persons desiring to transit through security zone must contact the Captain of the Port at telephone number (313) 568-9580/313-568-9524, or on VHF channel 16 to seek permission prior to transiting the area. If permission is granted, all persons and vessels shall comply with the instructions of the Captain of the Port or his or her designated representative.

Dated: December 31, 2003.
P.G. Gerrity,
Commander, U.S. Coast Guard, Captain of the Port Detroit.

[FR Doc. 04-385 Filed 1-8-04; 8:45 am]

BILLING CODE 4910-15-U